DEPARTMENT OF TRANSPORTATION

Federal Aviation Administration

14 CFR Part 39

[Docket No. FAA-2006-26489; Directorate Identifier 2006-CE-74-AD; Amendment 39-14966; AD 2007-05-05]

RIN 2120-AA64

Airworthiness Directives; SOCATA—Groupe AEROSPATIALE Models M.S. 760, M.S. 760 A, and M.S. 760 B Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

Following Safety Alert No. SA-006, issued by the National Transportation Safety Board (NTSB) on aircraft icing, it was impossible to demonstrate that the aircraft can safely takeoff when contaminated by frost, ice, snow, or slush, and fly into icing conditions.

We are issuing this AD to require actions to correct the unsafe condition on these products.

DATES: This AD becomes effective April 9, 2007.

The Director of the Federal Register approved the incorporation by reference of certain publications listed in this AD as of April 9, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Albert J. Mercado, Aerospace Engineer, FAA, Small Airplane Directorate, 901 Locust, Room 301, Kansas City, Missouri 64106; telephone: (816) 329-4119; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on January 5, 2007 (72 FR 483). That NPRM proposed to correct an unsafe condition for the specified products. The MCAI states:

Following Safety Alert No. SA-006, issued by the National Transportation Safety Board (NTSB) on aircraft icing, it was impossible to demonstrate that the aircraft can safely takeoff when contaminated by frost, ice, snow, or slush and fly into icing conditions.

The MCAI requires operational limitation on takeoff with contamination and requires a pre-takeoff check in ground icing conditions and flight into icing conditions.

Comments

We gave the public the opportunity to participate in developing this AD. We received no comments on the NPRM or on the determination of the cost to the public.

We further analyzed this AD and determined that the limitation that prohibits TAKEOFF WITH FROST, ICE, SNOW, OR SLUSH ON THE WING, CONTROL SURFACES, HORIZONTAL TAIL, AND AIR INTAKES, * * * should be * * * WING, CONTROL SURFACES, HORIZONTAL TAIL, OR AIR INTAKES, * * * This meets the other airworthiness authority's intent and the FAA's intent of assuring that takeoff is prohibited if ice, snow, or slush is present on one of those surfaces instead of all the surfaces.

Conclusion

We reviewed the available data and determined that air safety and the public interest require adopting the AD as proposed except for the change described above. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow FAA policies. Any such differences are described in a separate paragraph of the AD. These requirements, if any, take precedence over the actions copied from the MCAI.

Costs of Compliance

We estimate that this AD will affect 41 products of U.S. registry. We also estimate that it will take about 1 work-hour per product to comply with this AD. The average labor rate is $80 per work-hour. Based on these figures, we estimate the cost of this AD on U.S. operators to be $3,280, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-05-05 SOCATA—Groupe AEROSPATIALE: Amendment 39-14966; Docket No. FAA-2006-26489; Directorate Identifier 2006-CE-74-AD.

Effective Date

(a) This airworthiness directive (AD) becomes effective April 9, 2007.

Affected ADs

(b) None.

Applicability

(c) This AD applies to Models M.S. 760, M.S. 760 A, and M.S. 760 B airplanes, all serial numbers, certificated in any category.

Reason

(d) The mandatory continuing airworthiness information (MCAI) states:

Following Safety Alert No. SA-006, issued by the National Transportation Safety Board (NTSB) on aircraft icing, it was impossible to demonstrate that the aircraft can safely takeoff when contaminated by frost, ice, snow, or slush and fly into icing conditions.

Actions and Compliance

(e) Do the following, unless already done:

(1) Prior to the next flight after April 9, 2007 (the effective date of this AD), insert a copy of this AD into the Limitations Section of the Airplane Flight Manual (AFM) to incorporate the following.

(i) Takeoff with frost, ice, snow, or slush on the wing, control surfaces, horizontal tail, or air intakes, and flight into icing conditions are prohibited.

(ii) Prior to each flight in which ground icing conditions exist as described in EADS SOCATA MS760 Aircraft Mandatory Service Bulletin SB 76-053, dated October 2006, perform a visual/tactile check. No visible trace of frost is acceptable, particularly on stabilizers and wing upper surfaces and leading edges as well as on air intakes.

(2) The owner/operator holding at least a private pilot certificate as authorized by section 43.7 of the Federal Aviation Regulations (14 CFR 43.7) may do the actions of this AD. Make an entry into the aircraft records showing compliance with this AD in accordance with section 43.9 of the Federal Aviation Regulations (14 CFR 43.9).

FAA AD Differences

Note: This AD differs from the MCAI and/or service information as follows:

(1) The limitation in the MCAI that prohibits takeoff with frost, ice, snow, or slush on the wing, control surfaces, horizontal tail, and air intakes, * * * is changed in this AD to * * * wing, control surfaces, horizontal tail, or air intakes, * * * This meets the other airworthiness authority's intent and the FAA's intent of assuring that takeoff is prohibited if ice, snow, or slush is present on one of those surfaces instead of all the surfaces.

(2) We added information in paragraph (e) that allows the owner/operator to insert a copy of this AD into the Limitation Section of the AFM. Without this information, a licensed mechanic would be required to do the AFM insertion.

Other FAA AD Provisions

(f) The following provisions also apply to this AD:

(1) Alternative Methods of Compliance (AMOCs): The Manager, Standards Staff, FAA, Small Airplane Directorate, ATTN: Albert J. Mercado, Aerospace Engineer, 901 Locust, Room 301, Kansas City, Missouri 64106; telephone: (816) 329-4119; fax: (816) 329-4090, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(g) Refer to MCAI European Aviation Safety Agency Emergency Airworthiness Directive AD No. 2006-0348-E, dated November 20, 2006, for related information.

Material Incorporated by Reference

(h) You must use EADS SOCATA MS760 Aircraft Mandatory Service Bulletin SB 76-053, dated October 2006, to do the actions required by this AD, unless the AD specifies otherwise.

(1) The Director of the Federal Register approved the incorporation by reference of this service information under 5 U.S.C. 552(a) and 1 CFR part 51.

(2) For service information identified in this AD, contact EADS SOCATA, Direction des Services, 65921 Tarbes Cedex 9, France; telephone: 33 (0)5 62.41.73.00; fax: 33 (0)5 62.41.76.54.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on February 22, 2007.
Kim Smith,
Manager, Small Airplane Directorate, Aircraft Certification Service.

[FR Doc. E7-3574 Filed 3-2-07; 8:45 am]

BILLING CODE 4910-13-P